DEPARTMENT OF THE INTERIOR

Bureau of Land Management

[LLORW00000 L51010000.ER0000. LVRWH09H0570; HAG10-0008]

Notice of Intent To Prepare an Environmental Impact Statement for the Vantage to Pomona Heights 230 Kilovolt Transmission Line Project, Yakima, Kittitas, and Grant Counties, WA

AGENCY: Bureau of Land Management, Interior.

ACTION: Notice of intent.

SUMMARY: In compliance with the National Environmental Policy Act (NEPA) of 1969, as amended, and the Federal Land Policy and Management Act (FLPMA) of 1976, as amended The Bureau of Land Management (BLM) Wenatchee Field Office and the U.S. Army Yakima Training Center (YTC) intend to prepare an Environmental Impact Statement (EIS) for the Vantage to Pomona Heights 230 kilovolt (kV) Transmission Line Project. By this notice, the BLM and YTC are announcing the beginning of the scoping process to solicit public comments and identify issues.

DATES: Comments on this Notice of Intent may be submitted in writing until March 8, 2010. The dates and the locations of any scoping meetings will be announced through local media and individual letter mailings at least 15 days prior to the events. To be considered in the Draft EIS, all comments must be received prior to the close of the scoping period or 15 days after the last public meeting, whichever is later. BLM will provide additional opportunities for public involvement after publication of the Draft EIS.

ADDRESSES: You may submit comments or resource information related to the Vantage to Pomona Heights 230 kV Transmission Line Project by either of the following methods:

• E-mail: OR_Wenatchee_Mail@blm.gov (please reference Vantage to Pomona Heights EIS in the subject line).

• Mail/hand deliver to: BLM Wenatchee Field Office, ATTN: Vantage to Pomona Heights EIS, 915 Walla Walla Avenue, Wenatchee, Washington 98801-1521.

Documents pertinent to this proposal may be examined at the BLM Wenatchee Field Office.

FOR FURTHER INFORMATION CONTACT: For further information and/or to have your name added to our mailing list, contact William Schurger, Realty Specialist, at (509) 655-2100; e-mail: OR_Wenatchee_Mail@blm.gov.

SUPPLEMENTARY INFORMATION: Pacific Power has submitted applications for rights-of-way (ROWs) across BLM- and YTC-administered lands to construct the Vantage to Pomona Heights 230kV Transmission Line Project. The new 230 kV transmission line is being proposed to address energy demand growth in the Yakima region by increasing the capacity of the transmission system [that will serve growing needs] while ensuring continued reliable service to existing customers.

The new 230 kV transmission line would be constructed from Pacific Power's existing Pomona Heights substation east of Selah, Washington to the Bonneville Power Administration's existing Vantage substation east of the Wanapum Dam on the Columbia River. The project would cross a distance of approximately 38 miles through Grant, Kittitas, and Yakima Counties. The proposed route is generally parallel and south of Pacific Power's existing Pomona-Wanapum 230 kV transmission line. The line would cross approximately four miles of BLM-administered land, 19 miles of the YTC administered lands, and 15 miles of private land. The permanent ROW requested for the project is 125 feet wide. H-frame wood pole structures are proposed for most of the line located in open terrain. The H-frame structures would be between 65 and 100 feet tall and spaced approximately 750 to 900 feet apart depending on terrain. In developed areas, such as around the Pomona Heights substation, single wood or steel pole structures would be used. The single pole structures would be between 80 and 95 feet tall and spaced approximately between 300 to 500 feet apart. For the Columbia River crossing, steel lattice structures would be approximately 200 feet tall. This extra height is required to safely span the more than 3,000-foot river crossing. Construction would begin in mid 2011 and be completed in late 2012.

The BLM and YTC are joint lead Federal agencies for preparation of the EIS. Through public scoping, BLM and YTC expect to identify various issues, potential impacts, mitigation measures, and alternatives associated with the proposed action. Through internal scoping, the BLM and YTC identified the following preliminary issues and concerns:

(1) Potential conflict with YTC training operations. The YTC is concerned about how the proposed transmission line would interfere with or constrain its military training mission.

(2) Cultural properties. Cultural properties in the vicinity of the proposed route are of concern to several Native American Tribes.

(3) Habitat for sage-grouse and other species of concern. The proposed route would pass through occupied sage-grouse habitat.

(4) Values within the Yakima River Canyon Area of Critical Environmental Concern (ACEC). The proposed route would cross through this ACEC, whose values include three plant species of concern, unique wildlife habitat, and recreational opportunities.

(5) Visual resources. Portions of the proposed transmission line would be visible from great distances in this open terrain.

(6) Wildland fire management. High value facilities, such as the proposed transmission line, require additional protection from wildland fire.

The BLM will use the NEPA commenting process to satisfy the public involvement process of Section 106 of the National Historic Preservation Act (16 U.S.C. 470f), as provided for in 36 CFR 800.2(d)(3). Native American Tribal consultations will be conducted and Tribal concerns, including impacts on Indian trust assets, will be given due consideration. Federal, State, and local agencies, along with other stakeholders that may be interested in or affected by the BLM's decision on this project, are invited to participate in the scoping process. Federal, State, and local agencies may request or be asked by the BLM to participate as a cooperating agency. Before including your address, phone number, e-mail address, or other personal identifying information in your comment, you should be aware that your entire comment—including your personal identifying information—may be made publicly available at any time.

Robert B. Towne,
Spokane District Manager.

[FR Doc. E9-31240 Filed 1-4-10; 8:45 am]

BILLING CODE 4310-33-P